DEPARTMENT OF DEFENSE

Office of the Secretary

[Transmittal No. 24-86]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-86, Policy Justification, and Sensitivity of Technology.

Dated: November 18, 2025.
Stephanie J. Bost,
Alternate OSD Federal Register Liaison Officer, Department of Defense.

BILLING CODE 6001-FR-P

BILLING CODE 6001-FR-C

Transmittal No. 24-86

Notice of Proposed Issuance of Letter of Offer Pursuant to Section 36(b)(1) of the Arms Export Control Act, as amended

(i) Prospective Purchaser: Government of Norway

(ii) Total Estimated Value:

Major Defense Equipment * | $374 million
Other | $ 31 million
TOTAL | $405 million

(iii) Major Defense Equipment (MDE):

One hundred (100) Advanced Medium Range Air-to-Air Missiles-Extended Range (AMRAAM-ER)

Four (4) AMRAAM AIM-120C-8 guidance sections

Non-Major Defense Equipment:

The following non-MDE items will also be included: AMRAAM containers and support equipment; spare parts, consumables, accessories, and repair and return support; weapons software and support equipment, and classified software delivery and support; transportation support; classified publications and technical documentation; training equipment and support; studies and surveys; United States (U.S.) Government and contractor engineering, technical, and logistics support services; and other related elements of logistics and program support.

(iv) Military Department: Air Force (NO-D-YAJ)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: August 22, 2024

* as defined in Section 47(6) of the Arms Export Control Act.

POLICY JUSTIFICATION

Norway—Advanced Medium Range Air-to-Air Missiles—Extended Range

The Government of Norway has requested to buy one hundred (100) Advanced Medium Range Air-to-Air Missiles-Extended Range (AMRAAM-ER) and four (4) AMRAAM AIM-120C-8 guidance sections. The following non-MDE items will also be included: AMRAAM containers and support equipment; spare parts, consumables, accessories, and repair and return support; weapons software and support equipment, and classified software delivery and support; transportation support; classified publications and technical documentation; training equipment and support; studies and surveys; U.S. Government and contractor engineering, technical, and logistics support services; and other related elements of logistics and program support. The estimated total cost is $405 million.

This proposed sale will support the foreign policy goals and national security objectives of the United States by improving the security of a NATO Ally that is a force for political stability and economic progress in Europe.

The proposed sale will improve Norway's capability to meet current and future threats by supplementing and replacing Air Intercept Missile 120B (AIM-120B) AMRAAMs with the more capable AMRAAM-ER. The newly acquired missiles will be used for ground-based air defense in the Norwegian Advanced Surface to Air Missile System (NASAMS). Norway already has AMRAAMs in its inventory and will have no difficulty absorbing these articles into its armed forces.

The proposed sale of this equipment and support will not alter the basic military balance in the region.

The principal contractor will be RTX Corporation, located in Tucson, AZ. There are no known offset agreements proposed in connection with this potential sale.

Implementation of this proposed sale will not require the assignment of any additional U.S. Government or contractor representatives to Norway.

There will be no adverse impact on U.S. defense readiness as a result of this proposed sale.

Transmittal No. 24-86

Notice of Proposed Issuance of Letter of Offer Pursuant to Section 36(b)(1) of the Arms Export Control Act

Annex

Item No. vii

(vii) Sensitivity of Technology:

1. The AIM-120C-8 Advanced Medium Range Air-to-Air Missile (AMRAAM) is a supersonic, air-or-surface-launched aerial intercept guided missile featuring digital technology and micro-miniature solid-state electronics. AMRAAM capabilities include look-down/shoot-down, multiple launches against multiple targets, resistance to electronic countermeasures, and interception of high and low-flying and maneuvering targets.

a. The Advanced Medium Range Air-to-Air Missile-Extended Range (AMRAAM-ER) utilizes an AIM-120C-7 or C-8 seeker and warhead joined with a new control section and rocket motor, applicable only for surface-launch mode applications. This provides extended range and altitude as well as higher speed and maneuverability.

2. The KGV-135A is a high-speed, general purpose encryptor/decryptor module used for wide-band data encryption.

3. The Common Munitions Built-In-Test (BIT)/Reprogramming Equipment (CMBRE) is upport equipment used to interface with weapon systems to initiate and report BIT results, and upload/download flight software. CMBRE supports multiple munitions platforms with a range of applications that perform preflight checks, periodic maintenance checks, loading of Operational Flight Program (OFP) data, loading of munitions mission planning data, loading of Global Positioning System (GPS) cryptographic keys, and declassification of munitions memory.

4. The ADU-891 Adapter Group Test Set provides the physical and electrical interface between the CMBRE and the missile.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that Norway can provide substantially the same degree of protection for the sensitive technology being released as the U.S. Government. This sale is necessary in furtherance of the U.S. foreign policy and national security objectives outlined in the Policy Justification.

8. All defense articles and services listed in this transmittal have been authorized for release and export to the Government of Norway.

[FR Doc. 2025-20509 Filed 11-20-25; 8:45 am]

BILLING CODE 6001-FR-P